NUCLEAR REGULATORY COMMISSION

[NRC-2012-0066]

Agency Information Collection Activities: Proposed Collection; Comment Request

Correction

In notice document 2012-12042 appearing on page 29697 in the issue of Friday, May 18, 2012, make the following correction:

On page 29697, in the second column, in the ninth paragraph, the first line should read “Submit, by July 17, 2012, comments that address the following questions:”

[FR Doc. C1-2012-12042 Filed 5-30-12; 8:45 am]

BILLING CODE 1505-01-D